DEPARTMENT OF AGRICULTURE

Forest Service

Clearwater and Nez Perce National Forests

AGENCY: Forest Service, USDA.

ACTION: Notice of Adjustment.

SUMMARY: A Notice of Intent to prepare an environmental impact statement to revise Land and Resource Management Plans was published in the Federal Register of September 30, 2004 (69 FR 58384). The Clearwater and Nez Perce National Forests are adjusting the forest plan revision process from compliance with the 1982 land and resource management planning regulations to compliance with new regulations published in the Federal Register of January 5, 2005 (70 FR 1062)

Public Involvement: The Nez Perce and Clearwater National Forests are providing for additional public engagement through direct mailings, the Web site, and meetings when requested by individuals, groups, or agencies.

FOR FURTHER INFORMATION CONTACT: Elayne Murphy, Public Affairs Officer, at 208-935-2513. Additional information will also be posted on the Clearwater and Nez Perce National Forest planning Web page at http://www.fs.fed.us/cnpz/.

SUPPLEMENTARY INFORMATION: A 90-day public comment period on the proposed action to revise the land and resource management plans (forest plans) for the Nez Perce and Clearwater National Forests ended on December 29, 2004. Analysis of the comments received has been completed. Collaboration with the public on the proposed plan will occur through direct mailings, the Web site, and meetings when requested by individuals, groups, or agencies. The remaining forest plan revision schedule will be approximately as follows:

• Fall 2005: Release proposed forest plans and start 90-day comment period.

• Fall 2006: Release final forest plans and start 30-day public objection period.

• Winter 2007: Issue final decision and start plan implementation.

The Web site provides additional information regarding the decision to transition to the new planning regulations, discussion of plan revision elements already completed before making this transition, and other details.

Dated: May 5, 2005.
Larry J. Dawson,
Supervisor, Clearwater National Forest.
Dated: May 5, 2005.
Jane L. Cottrell,
Supervisor, Nez Perce National Forest.

[FR Doc. 05-9978 Filed 5- 8-05; 8:45 am]

BILLING CODE 3410-11-M